NATIONAL AERONAUTICS AND SPACE ADMINISTRATION

[Notice 18-037]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: All comments should be submitted within 30 calendar days from the date of this publication.

ADDRESSES: All comments should be addressed to Lori Parker, National Aeronautics and Space Administration, 300 E Street SW, Washington, DC 20546-0001.

FOR FURTHER INFORMATION CONTACT: Requests for additional information or copies of the information collection instrument(s) and instructions should be directed to Lori Parker, NASA Clearance Officer, NASA Headquarters, 300 E Street SW, JF0000, Washington, DC 20546, (202) 358-1351.

SUPPLEMENTARY INFORMATION:

I. Abstract

Federal agencies are required by statute not to engage in discrimination on the bases of race, color, religion, sex, national origin, age, disability, genetic information, or retaliation. A federal employee, former employee, or job applicant who believes s/he was discriminated against has a right to file a complaint with the agency's office responsible for its Equal Employment Opportunity (EEO) programs. Federal agencies must offer pre-complaint counseling or EEO alternative dispute resolution (EEO ADR) to individuals who allege that they were discriminated against by the agency. If pre-complaint counseling or EEO ADR does not resolve the dispute(s), the individual can file a formal discrimination complaint with the agency's EEO office.

II. Methods of Collection

Title 29 of the Code of Federal Regulations (CFR) Part 1614 Section 104 requires agencies to establish procedures for processing individual and class complaints of discrimination that include the provisions contained in 29 CFR 1614.105 through 1614.110 and in § 1614.204, which are consistent with all other applicable Federal EEO regulations and complaint processing requirements contained in the Equal Employment Opportunity Commission (EEOC) Management Directives (MD).

When an individual decides to pursue the formal discrimination complaint process, EEOC MD 110 requires that the formal complaint must be:

• In writing;

• Specific with regard to the claim(s) that the individual raised in pre-complaint counseling and that the person wishes to pursue;

• Must be signed by the individual and/or his or her representative; and

• Must be filed within fifteen (15) calendar days from the date s/he receives the Notice of Right to File a Discrimination Complaint.

Consequently, NASA established NF-1355P form to ensure the individual who wishes to utilize the EEO process complies with the requirements listed above.

III. Data

Title: Formal Discrimination Complaint Form.

OMB Number: 2700-0163.

Type of Review: Extension of Existing Form.

Affected Public: Individuals who wish to file a formal discrimination complaint against NASA.

Estimated Number of Respondents: 60.

Estimated Time per Response: 30 minutes.

Estimated Total Annual Public Burden Hours: 30 hours.

Estimated Total Annual Government Cost: $500.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2018-09170 Filed 4-30-18; 8:45 am]

BILLING CODE 7510-13-P